DEPARTMENT OF THE INTERIOR

Bureau of Land Management

[WYW 179968]

Public Land Order No. 7852; Withdrawal of Public Land for the Buffalo Bill Dam and Reservoir; Wyoming

AGENCY: Bureau of Land Management, Interior.

ACTION: Public Land Order.

SUMMARY: This order withdraws 32.56 acres of public land from settlement, sale, location, and entry under the general land laws, including the United States mining laws, for a period of 20 years to protect the Buffalo Bill Dam and Reservoir and the recreational facilities near Cody, Wyoming.

DATE: This Public Land Order is effective on May 9, 2016.

FOR FURTHER INFORMATION CONTACT: Janelle Wrigley, Realty Officer, Bureau of Land Management (BLM), Wyoming State Office, 5353 N. Yellowstone Road, Cheyenne, Wyoming 82009, 307-775-6257 or via email at jwrigley@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: This withdrawal protects the completed Buffalo Bill Dam and Reservoir Modification Project, Shoshone Project, Pick-Sloan Missouri Basin Program, Wyoming, as authorized by Public Law 97-293, dated October 12, 1982. The implementing Act for this project provides for 74,000 acre-feet of additional water storage annually for irrigation, municipal, and industrial use; increased hydroelectric power generation; outdoor recreation; fish and wildlife conservation and development; environmental quality; and other purposes. As part of a joint-venture agreement between the Bureau of Reclamation and the State of Wyoming, the land is used by the Wyoming State Parks and Historic Sites and is managed as a State campground. The land is centrally located within this site and major improvements in the form of a campground, roads, playgrounds, restrooms, and picnic and shelter facilities have been constructed.

Order

By virtue of the authority vested in the Secretary of the Interior by Section 204 of the Federal Land Policy and Management Act of 1976, 43 U.S.C. 1714, it is ordered as follows:

1. Subject to valid existing rights, the following-described public land is hereby withdrawn from settlement, sale, location, and entry under the general land laws, including the United States mining laws, but not from leasing under the mineral leasing laws, to protect the Buffalo Bill Dam and Reservoir and recreation facilities:

Sixth Principal Meridian

T. 52 N., R. 104 W.,

Sec. 14, lots 10, 11, 26, and 27;

Sec. 15, lots 21, 22, and 23.

The area described contains 32.56 acres, in Park County.

2. The jurisdiction for all surface uses of these lands is transferred to and exercised by the Bureau of Reclamation, subject to all previously issued leases, licenses, rights of way, and other agreements. The withdrawal made by this order does not alter the applicability of those public land laws governing the use of the land under lease, license, or permit, or governing the disposal of the mineral or vegetative resources other than under the mining laws.

3. This withdrawal will expire 20 years from the effective date of this order, unless, as a result of a review conducted prior to the expiration date pursuant to Section 204(f) of the Federal Land Policy and Management Act of 1976, 43 U.S.C. 1714(f), the Secretary determines that the withdrawal shall be extended.

Dated: April 26, 2016.
Janice M. Schneider,
Assistant Secretary—Land and Minerals Management.

[FR Doc. 2016-10862 Filed 5-6-16; 8:45 am]

BILLING CODE 4310-11-P